DEPARTMENT OF THE INTERIOR

National Park Service

[NPS-WASO-NAGPRA-NPS0031019; PPWOCRADN0-PCU00RP14.R50000]

Notice of Inventory Completion: California Department of Transportation, Sacramento, CA

AGENCY: National Park Service, Interior.

ACTION: Notice.

SUMMARY: The California Department of Transportation (Caltrans), assisted by the Fowler Museum at the University of California Los Angeles (UCLA) and the San Luis Obispo County Archaeological Society Research and Collections Facility (SLOCAS), has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the California Department of Transportation. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the California Department of Transportation at the address in this notice by November 27, 2020.

ADDRESSES: Sarah Allred, California Department of Transportation, P.O. Box 942874 MS 27, Sacramento, CA 94271-0001, telephone (916) 653-0013, email Sarah.Allred@dot.ca.gov.

SUPPLEMENTARY INFORMATION: Notice is here given in accordance with the Native American Graves Protection and Repatriation Act (NAGPRA), 25 U.S.C. 3003, of the completion of an inventory of human remains and associated funerary objects under the control of the California Department of Transportation, Sacramento, CA, and in the physical custody of the Fowler Museum at the University of California Los Angeles, Los Angeles, CA and the San Luis Obispo County Archaeological Society Research and Collections Facility, San Luis Obispo, CA. The human remains and associated funerary objects were removed from San Luis Obispo County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by California Department of Transportation, UCLA, and SLOCAS professional staff in consultation with representatives of the Santa Ynez Band of Chumash Mission Indians of the Santa Ynez Reservation, California and three non-federally recognized Indian groups—the Barbareno/Ventureno Band of Mission Indians, Northern Chumash Tribe, and Salinan Tribe of San Luis Obispo and Monterey Counties (hereafter referred to as “The Consulted Tribes and Groups”).

History and Description of the Remains

In 1965 and 1966, human remains representing, at minimum, 74 individuals were removed from CA-SLO-175 in San Luis Obispo County, CA. David Abrams and Nelson Leonard, in association with the University of California Archeological Survey, began excavations when Caltrans sought to widen Highway 1, which would significantly impact this Middle-to-Late Period site. The land was originally owned by the Hearst Corporation; Caltrans purchased the right-of-way in June 1966. All laboratory work was completed at UCLA. Abrams reported on the site and excavation in the MA thesis he submitted to the University of California Davis. Except for the human remains and associated funerary objects, UCLA sent the collection from CA-SLO-175 to SLOCAS (located at Cuesta College) for further study and analysis in March 1973. Subsequently, additional materials associated with the site were found at UCLA, and in May 1978, they were sent to SLOCAS for permanent curation. On July 14, 2017, UCLA sent the human remains and associated funerary objects to SLOCAS in order to bring the collection back together for an inventory, and to look for missing and loaned artifacts with the assistance of Chumash community members. The human remains derive from 40 formal burials and recovered fragmentary remains, representing a minimum number of 74 individuals in total. (The field notes refer to a Burial 41, but only 40 burials in total were identified, as “Burial 6” was not assigned.) They belong to 47 adult individuals, 15 of whom could be identified as male and nine of whom could be identified as female; 22 juvenile individuals; one infant; and four individuals of unidentifiable age or sex. No known individuals were identified. The 1,277 associated funerary objects include 107 pieces and 12 bags of unmodified faunal remains; three bone awl fragments; 14 bone ornaments; six bone whistles; five bone sweat sticks; three modified bone pieces; 46 pieces of chipped chert; one limestone fragment; one coral fragment; one sandstone hammerstone; one siltstone pick; three stone fragments; three steatite beads; two tarring pebbles; two net weights; five obsidian flakes; five pieces of red ochre; 15 fragments and one bag of asphaltum (13 of the 15 pieces are inlaid with shell beads); two asphaltum plugs; 1,019 beads and one bag of shell beads; three shell ornaments; 12 pieces and one bag of unmodified shell; one piece and one bag of shell with asphaltum residue; and one piece of charcoal. (Eight additional items—two pieces of unmodified shell, two pieces of chipped chert, one net weight, one piece of cut wood, and two asphaltum inlaid pipes—have not yet been located.)

In 1965, human remains representing, at minimum, 11 individuals were removed from CA-SLO-179 in San Luis Obispo County, CA. Nelson Leonard and a UCLA Archaeological Survey crew conducted excavation at this large shell midden near Pico Creek before the widening of Highway 1, which would partially destroy the Middle-to-Late Period site. All analysis and reports were completed at UCLA in Anthropology. Except for the human remains and associated funerary objects, UCLA sent the collection from CA-SLO-179 to SLOCAS for further study and analysis in March 1973. Subsequently, additional materials associated with the site were found at UCLA, and in May 1978, they were sent to SLOCAS for permanent curation. On July 14, 2017, UCLA sent the human remains and associated funerary objects to SLOCAS in order to bring the collection back together for an inventory, and to look for missing and loaned artifacts with the assistance of Chumash community members. The human remains of three individuals—two adult males and a juvenile—derive from two formal burials, while the human remains of, at minimum, eight individuals—three of them juvenile—were recovered from midden contexts. No known individuals were identified. The five associated funerary objects are projectile point fragments. (One glass fragment and one large mussel shell are currently missing from the collections. Records indicate that the missing items were transferred to Cuesta College in May 1978. No further information could be found.)

Based on geographical, ethnographic, historical, oral traditional, and archeological information, Caltrans has determined that CA-SLO-175 and CA-SLO-179 lie within the traditional territory of the Chumash and Salinan people. The associated funerary objects, too, are consistent with those belonging to groups ancestral to the present-day Chumash and Salinan people.

Determinations Made by the California Department of Transportation

Officials of the California Department of Transportation have determined that:

• Pursuant to 25 U.S.C. 3001(9), the human remains described in this notice represent the physical remains of 85 individuals of Native American ancestry.

• Pursuant to 25 U.S.C. 3001(3)(A), the 1,282 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian Tribe or Native Hawaiian organization not identified in this notice that wish to request transfer of control of these human remains and associated funerary objects should submit a written request with information in support of the request to Sarah Allred, California Department of Transportation, P.O. Box 942874 MS 27, Sacramento, CA 94271-0001, telephone (916) 653-0013, email Sarah.Allred@dot.ca.gov, by November 27, 2020. After that date, if no additional requestors have come forward, transfer of control of the human remains and associated funerary objects to the Santa Ynez Band of Chumash Mission Indians of the Santa Ynez Reservation, California may proceed.

The California Department of Transportation is responsible for notifying The Consulted Tribes and Groups that this notice has been published.

Dated: October 9, 2020.
Melanie O'Brien,
Manager, National NAGPRA Program.

[FR Doc. 2020-23827 Filed 10-27-20; 8:45 am]

BILLING CODE 4312-52-P